DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 67 FR 70088-70089, dated November 20, 2002) is amended to reorganize the Office of Vital and Health Statistics Systems, NCHS.

Section C-B, Organization and Functions, is hereby amended as follows:

Delete in its entirety the functional statement for the Office of Vital and Health Statistics Systems and insert the following:

The Division of Vital Statistics (CS5). Plans and administers complex data collection systems and conducts a program of methodologic and substantive public health research activities based on the nationwide collection of data from vital records, follow back surveys, and demographic surveys of people in the childbearing ages. (1) Participates in the development of policy, long-range plans, and programs of the Center; (2) directs, plans, and coordinates the vital statistics program of the United States; (3) administers the vital statistics cooperative program, including the National Death Index; (4) develops standards for vital statistics data collection including electronic systems, data reduction, and tabulation; (5) interprets, classifies, and compiles complex demographic, economic, health, and medical data; (6) serves as the United States representative to the World Health Organization (WHO), regarding the International Classification of Diseases (ICD) for mortality data and the classification and coding of cause of death; (7) conducts research to determine cross-national comparability of causes of death to further enhance the ICD and make appropriate recommendations to WHO; (8) conducts research on data collection methodology, survey methodology, data quality and reliability, and statistical computation as related to vital and survey statistics; (9) conducts multidisciplinary research directed toward development of new scientific knowledge on the demographics of reproduction, natality, and mortality; (10) performs theoretical and experimental investigations into the content of the vital statistics data collection effort; (11) develops sophisticated approaches to making vital statistics data available to users, including techniques to avoid disclosure of confidential data; (12) conducts descriptive analyses and sophisticated multivariate analyses that integrate vital statistics data across multiple surveys or data sets; (13) provides technical assistance and consultation to international, State, and local offices with vital registration responsibilities on vital registration, vital statistics, and data processing; (14) researches, designs, develops, and implements state-of-the-art computing systems for collecting, storing, and retrieving vital records and for subsequent analysis and dissemination; (15) conducts methodological research on the tools for evaluation, utilization, and presentation of vital statistics and related survey data and medical classification; (16) produces and publishes a wide variety of vital statistics analytic reports and tabulations in multiple formats; (17) develops and sustains collaborative partnerships within NCHS, CDC, DHHS, and externally with public, private, domestic and international entities on vital statistics programs.

Office of the Director (CS51). (1) Participates in the development of policy, long-range plans, and programs of the Center; (2) provides leadership for the monitoring and statistical evaluation of national vital statistics; (3) directs, plans, and coordinates the statistical and research activities of the Division; (4) develops and administers a research and analytic program in registration and vital statistics; (5) develops policy, practices, and management for the Nation Death Index program; (6) plans and conducts a program to improve the vital registration and statistics program of the U.S.; (7) conducts studies of new vital registration techniques; (8) recommends content and format of model legislation, regulations, standard certificates, and other aids to registration systems; (9) provides international leadership and consultation on vital registration and statistics issues to other countries; and (10) establishes collaborative partnerships within NCHS, CDC, DHHS, and externally with public, private, domestic and international entities on vital statistics programs.

Systems, Programming, and Statistical Resources Branch (CS55). (1) Conducts research into the design, development, and administration of vital statistics information technology systems; (2) performs systems analysis and computer programming of vital registration data; (3) develops technologies, data architectures, security infrastructure, and database management related to vital records, record linkage, and sample surveys consistent with Center and Agency information technology requirements; (4) develops, maintains, and employs state-of-the-art information technologies (e.g., relational data bases, Web-enabled applications, applications development and dissemination activities) associated with vital statistics; (5) develops and maintains systems and databases to support the National Death Index program; (6) provides consultation and expert technical assistance to the Division concerning mainframe, client-server, and networking applications; (7) prepares and maintains population databases as well as conducts studies on statistical computation and data quality; (8) designs and implements information technology applications to produce final edited and imputed vital statistics and survey data; (9) produces and distributes wide variety of vital statistics reports and tabulations in multiple formats; (10) provides consultation, policy guidance and expert technical assistance NCHS-wide as well as to a broad range of agencies, institutions, federal, local and international governments, researchers, and individuals, in regard to vital statistics systems design, administration, and usage; and (11) manages national vital statistics data files and databases and the DVS vital statistics data request program.

Mortality Medical Classification Branch (CS56). (1) Develops medical classification software and procedures for collecting and processing of mortality medical data in states and at NCHS; (2) provides leadership to the international community in the use and adoption of automated mortality medical classification systems; (3) directs a comprehensive program of technical assistance and consultation related to medical mortality data classification to states, local areas, other countries, and private organizations; (4) tests, refines, and updates automated coding systems that assist in production of mortality data; (5) conducts methodological research in data preparation and medical classification of mortality data; (6) provides nosological assistance and training, both nationally and internationally, in regard in International Classification of Diseases (ICD) information for mortality and new revisions of the ICD; (7) interprets, classifies, codes, keys, and verifies medical and demographic information of value to researchers and public policy officials; (8) develops and implements training programs for cause-of-death coding and provides technical assistance to international, federal, state, and local government and non-government agencies.

Mortality Statistics Branch (CS53). (1) Establishes the research agenda for mortality statistics in response to public health priorities; (2) converts identified data needs into statistical and research programs to obtain, evaluate, analyze, and disseminate mortality statistics data; (3) conducts research to improve data collection of vital records, record linkage, and sample survey methodologies related to mortality statistics; (4) performs theoretical and experimental research that improves the content of the mortality statistics data collection effort and the timeliness, availability, and quality of mortality statistics data; (5) conducts research into life tables methodology and produces annual and decennial U.S. and State life tables; (6) recommends content of U.S. Standard Certificates; (7) assesses disclosure risk and develops optimal data release strategies that improve policy analysis and decision-making; (8) prepares and publishes descriptive analyses as well as sophisticated multivariate analyses that integrate data across multiple surveys or data sets; (9) conducts research rated to the International Classification of Diseases (ICD) and cause of death classification; (10) conducts national and state-specific comparability studies of cause of death classification to facilitate the study of mortality trends across ICD revisions; (11) designs and conducts methodological research to improve the collection, production, use, and interpretation of mortality-related data; (12) collaborates with other agencies and organizations in the design, implementation, and analysis of vital records surveys; and (13) develops and promotes training activities related to the collection, production, use and interpretation of mortality statistics.

Reproductive Statistics Branch (CS54). (1) Establishes the research agenda for reproductive statistics in response to public health priorities; (2) assesses information data needs in the fields of reproduction, maternal and child health, family formation, growth, and dissolution; (3) plans and develops statistical and research programs to obtain, evaluate, analyze, and disseminate reproductive statistics data to meet these needs; (4) conducts research to improve data collections on vital records, record linkage, and sample survey methodologies related to reproductive statistics; (5) performs theoretical and experimental research that improves the content of the reproductive statistics data collection effort and the timeliness, availability, and quality of reproductive statistics data; (6) assesses disclosure risk and develops optimal data strategies that improve policy analysis and decision-making; (7) prepares and publishes descriptive analyses of individual data systems as well as sophisticated multivariate analyses that integrate data across multiple surveys or data sets; (8) conducts methodological research to improve statistics on reproduction, maternal and child health, family formation, growth, and dissolution; (9) recommends content of U.S. Standard Certificates; and (10) provides consultation and advice to members of Congress, the press, and a broad range of researchers and institutions at the international, national, State, and local levels on reproductive statistics data.

Data Acquisition and Evaluation Branch (CS52). (1) Provides policy direction to states regarding vital statistics data acquisition and quality control; (2) promotes state participation in the vital statistics cooperative program and the national death index (NDI) program; (3) develops specifications for coding, editing and processing of vital registration and statistics data; (4) develops and administers funding formulas that determine the level of reimbursement to states and the procurement mechanisms to effect this reimbursement; (5) develops and directs a comprehensive statistical quality assurance program to assure that the data received from each registration area are acceptable for national use; (6) provides technical assistance to states, local areas, other countries, and private organizations on data files, software, training, processing and coding of vital statistics data; (7) in consultation with health departments across the U.S., leads and conducts evaluation studies and other research on issues related to the collection of vital statistics; (8) prepares and publishes information obtained from special projects related to vital registration and statistics data; (9) promotes the development and implementation of “best statistical practices” throughout the U.S. vital statistics system to maximize the utility of vital statistics data; and (10) manages the acquisition of vital statistics data from the 57 registration areas to assure a national file of timely and complete data.

Division of Health Care Statistics (CS6). Plans and administers complex data collection systems and analytic programs and conducts a program of methodologic and substantive public health research activities on the health care system and the use of health care services. (1) Participates in the development of policy, long-range plans, and programs of the Center; (2) plans, directs and coordinates the health care statistics program of the Center; (3) develop standards for health care statistics data collection, data reduction, and tabulation; (4) conducts research on data collection methodology, survey methodology, data quality and reliability, statistical computation, and utilization of health care statistics data; (5) conducts multidisciplinary research directed towards development of new scientific knowledge on the provision, use, quality, and appropriateness of ambulatory, hospital, and long-term care; interactions within the health care delivery system; and the effects of the system and its financing on services provided; (6) performs theoretical, experimental, and evaluation investigations into the content of the health care statistics data collection effort; (7) develops sophisticated approaches for making health care statistics data available to users, including techniques to avoid disclosure of confidential data; (8) conducts descriptive analyses and sophisticated multivariate analyses that integrate health care statistics across multiple surveys or data sets; (9) designs, develops, and implements state of the art computing systems for collection, storing, and retrieving health care statistics data for subsequent analysis and dissemination; (10) provides technical assistance, consultation, and liaison to international, federal, states, and local government agencies, as well as the private sector, on statistics describing health care resources and utilization and future data needs of particular relevance for public health, health services research, and health policy; (11) fosters the integration of health care data systems as well as greater linkages of data for analytic purposes; (12) analyzes and produces and publishes a wide variety of health care statistics reports and tabulations in multiple formats; and (13) develops and sustains collaborative partnerships with NCHS, CDC, and DHHS, and externally with public, private, domestic, and international entities on health care statistics programs.

Office of the Director (CS61). (1) Participates in the development of policy, long-range plans, and programs of the Center; (2) provides leadership for the development, conduct, and evaluation of national health care surveys and statistics; (3) directs, plans, and coordinates the statistical and research activities of the Division; (4) develops and administers a research and analytic program to characterize the health care delivery system and patients and providers interacting within it; (5) coordinates activities within the division and with other Center components aimed at obtaining and using health care data from other Federal, state, and local government agencies, as well as from non-government sources; and (6) provides advice and leads development of collaborative partnerships with NCHS, CDC, and DHHS, and externally with public, private, domestic and international entities on health care statistics and the manner in which statistics may impact policy issues.

Ambulatory Care Statistics Branch (CS62). (1) Develops and maintains a national register of ambulatory health care providers and inventories; (2) assesses information and data needs in the field of ambulatory care statistics and translates data needs into plans for ambulatory health care surveys, inventories and research activities; (3) prepares specifications for the collection, coding, editing, and imputation of ambulatory health care statistics data; (4) conducts complex research studies relating to ambulatory health care providers and their utilization; (5) converts identified data needs into research, development, and evaluation activities; (6) performs theoretical and experimental research that improves the content of the ambulatory care data collection efforts and the timeliness, availability, and quality of ambulatory care data; (7) assesses disclosures risk and develops optimal data release strategies that improve policy analysis and decision-making; (8) prepares and publishes descriptive analyses as well as sophisticated multivariate analyses that integrate data across multiple surveys or data sets; (9) develops and publishes a wide variety of reports and tabulations in multiple formats and arranges for distribution/dissemination through appropriate media; and (10) provides technical advice and consultation in survey methodology, data collection, quality control, and analysis of ambulatory health data to other health professional personnel and researchers.

Hospital Care Statistics Branch (CS63). (1) Develops and maintains a national register of hospital care providers; (2) translates data needs into plans for national inpatient and ambulatory surgery health care surveys, inventories and research activities; (3) prepares specifications for collection, coding, data entry, editing, and imputation of hospital care statistics data; (4) conducts complex research studies relating to hospital care and ambulatory surgery facilities and their utilization; (5) converts identified data needs into research, development, and evaluation activities; (6) performs theoretical and experimental research that improves the content of the hospital care data collection effort and the timeliness, availability, and quality of hospital care statistics and ambulatory surgery data; (7) assesses disclosure risk and develops optimal data release strategies that improve policy analysis and decision-making; (8) prepares and publishes descriptive analyses as well as sophisticated multivariate analyses that may integrate data across multiple surveys or data sets; (9) develops and publishes a wide variety of reports and tabulations in multiple formats and arranges for distribution/dissemination through appropriate media; and (10) provides technical advice and consultation in survey methodology, data collection, quality control, and analysis of hospital care and ambulatory surgery statistics to other health professional personnel and researchers.

Long-Term Care Statistics Branch (CS64). (1) Develops and maintains a national register of long-term care providers and plans for national long-term care surveys and inventories; (2) translates data needs into plans for surveys, inventories and research activities across the spectrum of long-term care; (3) prepares specifications for collection, coding, data entry, editing, and imputation of long-term care data; (4) conducts complex research studies relating to long-term care providers and their utilization; (5) converts identified data needs into research, development, and evaluation activities; (6) performs theoretical and experimental research to improve the content of the data collection effort and improves the timeliness, availability, and quality of long-term care statistics; (7) assesses disclosure risk and develops optimal data release strategies that improve policy analysis and decision-making; (8) prepares and publishes descriptive analyses as well as sophisticated multivariate analyses that may integrate data across multiple surveys or data sets; (9) develops and publishes a wide variety of reports and tabulations in multiple formats and arranges for distribution/dissemination through appropriate media; and (10) provides technical advice and consultation in survey methodology, data collection, quality control, and analysis of long-term care statistics to other health professional personnel and researcher.

Technical Services Branch (CS65). (1) Conducts research into the design, development, and administration of health care statistics information technology systems; (2) performs systems analysis and computer programming of health care statistics data; (3) develops and implements computer technologies, data architectures, security infrastructure, and database management for division programs consistent with Center and Agency information technology requirements; (4) develops, maintains, and employs state-of-the-art information technologies (e.g., relational data bases, Web-enabled applications, applications development tools) in support of data collection, processing, maintenance, analysis, and dissemination activities associated with national health care surveys; (5) advises division staff regarding resources for mainframe, client-server, network, and emerging applications; (6) prepares and maintains databases and file libraries, as well as conducts studies of statistical computation and data quality; (7) produces and disseminates a wide variety of reports and tabulations in multiple formats; (8) develops quality control measures; and (9) provides consultation, policy guidance, and expert technical assistance NCHS-wide as well as to a broad range of agencies, institutions, federal, local, and international governments, researchers, and individuals, in regard to health care survey and computer systems design and usage.

Division of Health Interview Statistics (CS7). Plans and administers complex data collection systems and analytic programs and conducts a program of methodologic and substantive public health research activities based on the collection of data from nationwide and special health interview surveys. (1) participates in the development of policy, long-range plans, and programs of NCHS; (2) plans, directs and coordinates the health interview statistics program of NCHS; (3) administers Division programs comprised of national health interview surveys, longitudinal surveys, population-based telephone surveys, targeted follow-up studies, and national and subnational surveys on selected health topics; (4) conducts research on data collection and estimation methodology, survey methodology, questionnaire design, data quality and reliability, and statistical computation related to health interview statistics; (5) analyzes data and publishes reports on the prevalence and incidence of disease and associated disabilities, health status, health-related behaviors, utilization of health care resources, health insurance status, and other health and well-being related topics; (6) conducts multidisciplinary research directed toward development of new scientific knowledge in areas related to health and health care, population demographics, economics, epidemiology, statistics, and disability, e.g., determining associations between risks and outcomes; (7) performs theoretical and experimental investigations of the content of health interview surveys; (8) develop sophisticated approaches to making data available to users, including techniques to avoid disclosure of confidential data; (9) conducts and publishes descriptive analyses and sophisticated multivariate analyses that may integrate data across multiple surveys or data sets; (10) designs, develops, and implements state-of-the art computing systems for collecting, storing, and retrieving health interview statistics and for subsequent analysis and dissemination; (11) applies computer systems and software in its programs, consistent with NCHS information technology requirements; (12) conducts methodological research on the utilization, evaluation, and presentation of health interview statistics; (13) produces and publishes a wide variety of health interview statistics reports, papers, and tabulations in multiple formats as well as makes presentations on analyses of such data; and (14) develops and sustains collaborative partnerships with, and provides expert advice and technical assistance to, NCHS, CDC, DHHS, and externally with public, private, domestic and international entities on issues regarding health interview survey data.

Office of the Director (CS71). (1) Participates in the development of policy, long-range plans, and programs of NCHS; (2) provides leadership for the design, development, conduct, and statistical evaluation of the Division's data systems, and the analysis and dissemination of national and subnational health interview statistics; (3) directs, plans, and monitors the scientific integrity and relevance to public health of the Division's data, publications, and other products; (4) directs and coordinates the planning and production activities of the Division, including data collection, information technology, and data dissemination; (5) develops and administers a research and analytic program in health interview statistics; (6) plans and conducts a program to improve methods for obtaining information on subpopulations defined by age, gender, geography, race, ethnicity, socioeconomic status, etc.; and (7) provides advice and leads development of collaborative partnerships within NCHS, CDC, and DHHS, and externally with public, private, domestic and international entities on issues regarding health interview statistics and the manner in which statistics may impact policy issues.

Systems and Programming Branch (CS72). (1) Conducts research into the design, development, deployment, and administration of information technology systems to collect, process, and disseminate national health interview survey data; (2) performs systems analysis and computer programming, employing state-of-the-art information technologies (e.g., relational databases, Web-enabled applications, applications development tools) in support of data collection, processing, maintenance, analysis, and dissemination activities associated with national health interview surveys; (3) develops and implements computer technologies, data architectures, and security infrastructure and information technology management for the national health interview survey information technology systems ensuring consistency with the Center and Agency information technology requirements (4) designs, implements, and administers health interview survey information technologies; (5) conducts studies on statistical computation and data quality; (6) directs and coordinates the Division's procurement of computer hardware and software; (7) conducts studies and analyses to endure data confidentiality; (8) designs and implements computer applications to produce final edited and imputed health interview survey data and statistics; (9) produces health statistics reports and tabulations of data from health interview surveys in multiple formats; (10) designs and conducts evaluative studies of health interview survey data collection, processing, and dissemination systems to incorporate new concepts, methods and technologies; (11) provides consultation, policy guidance, and expert technical assistance NCHS-wide as well as to a broad range of agencies, institutions, federal, local, and international governments, researchers, and individuals, in regard to the design, administration, and usage of health interview statistics technology systems.

Survey Planning and Development Branch (CS73). (1) Establishes the design and content of the national health interview surveys in response to public health priorities; (2) converts identified data needs into research, development, and evaluation activities and related public health information in the areas of prevalence and incidence of disease and associated disabilities, health status, health-related behaviors, health insurance status, and other health and well-being related topics; (3) coordinates survey instrument development and data collection activities by outside contractors; (4) designs and conducts methodological, analytical, developmental, and evaluation studies of health interview survey processes, questions, and data; (5) performs theoretical and experimental research on the content of and data collection efforts for health interview surveys in order to improve timeliness, quality, and availability of health interview survey data; (6) collaborates with other NCHS programs and through contracts and interagency agreements with outside sponsors of survey supplements in the development, implementation, and analysis of survey questions and data; and (7) provides technical advice and consultation in survey methodology, data collection, quality control, and analysis of health interview statistics data to a broad range of institutions, governments, and researchers.

Data Analysis Branch (CS74). (1) Conducts research and analysis on topics relevant to public health suing national health interview survey data; (2) integrates, analyzes, and disseminates data from the national health interview survey; (3) facilities linkages across the national health interview survey components and with other databases; (4) prepares and presents scientific papers on health issues using data from the national health interview survey; (5) collaborates in the development and application of analytical and methodological techniques and guides for the Division's data collection programs; ((6) identifies substantive methodological and technological research needs pertaining to health interview survey data; (7) serves as the NCHS resource on health interview survey data and their use in assessing the prevalence and incidence of disease and associated disabilities, health status, health related behaviors, health insurance status, and other health and well-being related topics; (8) collaborates in the questionnaire development process for health interview surveys; and (9) provides consolation, technical assistance, and liaison to academia, other research groups, and state, federal, and international entities concerning data needs and the definitions and uses of health interview survey data.

Special Population Surveys Branch (CS75). (1) Plans and directs special customized population surveys, such as the State and Local Area Integrated Telephone Survey (SLAITS), in order to obtain timely state and smaller-area data as well as national data relevant to public health; (2) plans and directs the methodological and development aspects of data systems for producing health, welfare, and well-being statistics for populations defined by geography, race and ethnicity, and for other special populations; (3) collaborates through contracts, grants, and interagency agreements with outside sponsors of special population surveys in the development, implementation, and analysis of survey questions and data; (4) coordinates special population survey instrument development and data collection and processing activities by outside contractors; (5) designs and implements computer applications to produce final edited and imputed special population survey data and statistics; (6) conducts methodological research and analysis to improve the quality of health, welfare, and well-being statistics for special populations; (7) conducts innovative research and analysis activities that will establish baseline health and health-related data at national and subnational levels; (8) converts identified data needs into research, development, and evaluation activities; (9) conducts theoretical and experimental research to improve the content of the data collection effort for special population surveys by linkage with other surveys and by conducting record validation; (10) designs, conducts, publishes, and presents results of methodological, analytical, developmental, and evaluation studies of special population survey processes, questions, and data; (11) serves as the NCHS resource on special population surveys data and their use in evaluating programs and activities related to the NCHS mission; and (12) provides consultation and technical assistance to academia, other research groups, and state, federal, and international entities addressing the definitions, needs, and uses of special population survey data.

Division of Health and Nutrition Examination Surveys (CS8). Plans and administers complex data collection systems and analytic programs and conducts a program of methodologic and substantive public health research activities based on the nationwide collection of data from health and nutrition examination surveys. (1) Participates in the development of policy, long-range plans, and programs of the Center; (2) plans, directs and coordinates the health and nutrition examination statistics program of the Center; (3) administers national cross-sectional, longitudinal and special health and nutrition examination studies responsive to the needs for complex health, nutritional, and related public health information; (4) manages and coordinates activities of the World Health Organization (WHO) Collaborating Centre for Health and Nutrition Examination Surveys; (5) conducts research on data collection methodology, survey methodology, data quality, and statistical computation related to health and nutritional status assessment; (6) conducts multidisciplinary research directed toward development of new scientific knowledge in the areas related to health and nutrition status, e.g. determining the causal relationships between risks and outcomes; (7) performs innovative theoretical and experimental investigations into the content of the health and nutrition examination statistics data collection effort; (8) develops sophisticated approaches to making health and nutrition examination statistics data available to users, including techniques, to avoid disclosure of confidential data; (9) prepares adn publishes descriptive analyses and sophisticated multivariate analyses that integrate health and nutrition examination statistics data across multiple surveys or data sets; (10) consults and provides technical assistance on the assessment of health and nutritional status for application in setting medical standards, evaluation of national programs, and regulatory processes; (11) provides leadership for the National Nutrition Monitoring and Related Research Program; (12) designs, develops, and implements state-of-the-art computing systems and technologies for collecting, storing, and retrieving health and nutrition examination data for subsequent analysis and dissemination; (13) applies computer systems and software for its programs consistent with Center information technology requirements; (14) produces a wide variety of health and nutrition examination statistics analytic reports and tabulations in multiple formats; and (15) develops and sustains collaborative partnerships within NCHS, CDC, and DHHS, and externally with public, private, domestic and international entities on health and nutrition examination statistics programs.

Office of the Director (CS81). (1) Participates in the development of policy, long-range plans, and programs of the Center; (2) provides leadership for the monitoring and statistical evaluation of national health and nutrition examination statistics; (3) plans, directs and coordinates the statistical activities of the Division; (4) develops and administers a research and analytic program in health and nutrition examination statistics; (5) provides advice and leads development of collaborative partnerships within NCHS, CDC, and DHHS and externally with public, private, domestic and international entities on health and nutrition examination statistics; (6) provides support and focus for DHHS activities in the National Nutrition Monitoring and Related Research Program, coordinating these activities in CDC, DHHS, and other Federal agencies; and (7) manages and coordinates activities of the World Health Organization (WHO) Collaborating Center for Health and Nutrition Examination Surveys.

Analysis Branch (CS82). (1) Analyzes data and prepares scientific papers on the prevalence of disease or health-related characteristics and the interrelationships of these variables; (2) collaborates in the development and application of analytic techniques and guidelines for the Division's data collection programs; (3) performs innovative health and nutrition examination statistics data needs into research, development, and evaluation activities; (5) conducts theoretical and experimental research to improve the content of the health examination statistics data collection effort; (6) prepares and publishes descriptive analyses as well as sophisticated multivariate analyses that integrate data across multiple surveys or data sets; (7) develops a wide variety of health and nutrition examination statistics reports and tabulations in multiple formats and arranges for dissemination through appropriate media; and (8) administers analysis and scientific peer review of manuscripts for data collected in the Division's data collection programs; and (9) provides technical advice and consultation to academic, international, federal, and state entities regarding nutritional and health examination statistics data.

Informatics Branch (CS83). (1) Conducts applied computer and informatics research on the development of new and novel approaches in integrated survey information systems, database technology, imaging and telemedicine, data transmission, geographical information systems, and metadata registries; (2) conducts research on the design, development, and administration of computer systems for more timely and accurate health and nutrition examination statistics data; (3) develops, implements, and supports technologies, data architectures, networks, security infrastructure, and database management for the Division's data collection and analytic programs consistent with state of the art trends in computer and informatics research; (4) implements appropriate technologies to prevent unauthorized access to internal and field data resources including authentication, data encryption, data security, system scanning/probing, and implementation and development of systems security and policies consistent with Presidential Decision Directives and other Government wide initiatives; (5) performs systems analysis, computer programming, and quality assurance/quality control of health and nutrition examination data; (6) develops and implements standards for the Division's data collection programs and provides support for telecommunications, data access, and high-speed network technologies (e.g., data dissemination, telemedicine applications); (7)performs special projects related to data on health and nutrition and produces a wide variety of reports and tabulations in multiple formats; and (8) provides advice, policy guidance, and expert technical consultation NCHS-wide and to academic, federal, state, local and international governments, and researchers regarding health and nutrition examination survey information technologies and informatics research.

Operations Branch (CS84). (1) Develops and administers contracts for data collection, engineering, acquisition and maintenance of mobile examination centers (MEC) and medical and computer equipment and receipt and cont4rol systems; (2) develops and implements systems for reporting of medical findings, professional readings, and laboratory processing for health and nutrition examination and special studies; (3) develops and conducts engineering and logistical support for survey data collection; (4) designs and conducts research studies on response rates, quality control and quality assurance of health and nutrition examination statistics data; (5) designs and develops comprehensive outreach programs and survey participant recruitment materials; and (6) prepares and publishes reports and analyses of field operations and performs special projects related to health and nutrition examination statistics survey implementation.

Planning Branch (CS85). (1) Establishes the research agenda for health and nutrition statistics data in response to public health priorities; (2) converts identified data needs into research, development, and evaluation activities and related public health information; (93) directs the planning phase of contractual activities, including pilot testing and workshop development, in support of the Division's data collection programs; (4) plans and develops a statistical program to obtain, evaluate, analyze and disseminate health and a nutrition examination statistics to meet these needs; (5) prepares and publishes descriptive analyses as well as sophisticated multivariate analyses that integrate data across multiple surveys or data sets; (6) performs theoretical and experimental research to improve the content of the health and nutrition examination statistics data collection effort and improve the timeliness, availability, and quality of the nutritional and health examination statistics data; (7) participates in the design and development of integrated, automated data collection systems and data file release programs as well as conducts statistical methods research; (8) provides technical oversight of all laboratory aspects of health and nutrition examination studies; and (9) provides consultation and technical assistance to a wide range of researchers and institutions at the state, national, and international levels addressing the definitions, needs, and uses of nutrition and health nutrition examination statistics.

Dated: February 2, 2003.
William H. Gimson,
Acting Director.

[FR Doc. 03-3439 Filed 2-11-03; 8:45 am]

BILLING CODE 4160-18-M